DEPARTMENT OF THE INTERIOR

Bureau of Reclamation

Battle Creek Salmon and Steelhead Restoration Project, Tehama and Shasta Counties, CA

AGENCY: Bureau of Reclamation, Interior.

ACTION: Notice of extension of time for review of Draft Environmental Impact Statement/Environmental Impact Report (EIS/EIR).

SUMMARY: The Bureau of Reclamation (Reclamation), the lead Federal agency; the Federal Energy Regulatory Commission, a cooperating Federal agency and the State Water Resources Control Board, the State lead agency, are extending the review period for the Draft EIS/EIR to October 16, 2003. The notice of availability of the Draft EIS/EIR and notice of public workshop and notice of public hearing was published in the Federal Register on July 18, 2003 (68 FR 42758). The public review period was originally to end on September 16, 2003.

DATES: Public comments on the Draft EIS/EIR are to be submitted on or before October 16, 2003.

ADDRESSES: Written comments on the Draft EIS/EIR are to be addressed to Ms. Mary Marshall, Bureau of Reclamation, 2800 Cottage Way, Sacramento, CA 95825 and to Mr. Jim Canaday, State Water Resources Control Board, 1001 I Street, Sacramento, CA 95814.

FOR FURTHER INFORMATION CONTACT: Ms. Mary Marshall, Reclamation, at (916) 978-5248, TDD (916) 978-5608, e-mail: mmarshall@mp.usbr.gov or Mr. Jim Canaday, SWRCB, at (916) 341-5308, e-mail: jcanaday@waterrights.swrcb.ca.gov.

SUPPLEMENTARY INFORMATION: Our practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: September 4, 2003.
Frank Michny,
Regional Environmental Officer, Mid-Pacific Region.

[FR Doc. 03-28729 Filed 11-17-03; 8:45 am]

BILLING CODE 4310-MN-P